DEPARTMENT OF ENERGY

Federal Energy Regulatory Commission

[Project No. 15407-000]

Nightfall Renewables Inc.; Notice of Preliminary Permit Application Accepted for Filing and Soliciting Comments, Motions To Intervene, and Competing Applications

On June 24, 2025, Nightfall Renewables Inc. filed an application for a preliminary permit, pursuant to section 4(f) of the Federal Power Act (FPA), proposing to study the feasibility of the Juniper Pumped Storage Project to be located in Los Angeles County, California. The sole purpose of a preliminary permit, if issued, is to grant the permit holder priority to file a license application during the permit term. A preliminary permit does not authorize the permit holder to perform any land-disturbing activities or otherwise enter upon lands or waters owned by others without the owners' express permission.

The proposed project would consist of the following new facilities: (1) a 320-foot-high, 2,330-foot-long concrete upper reservoir dam that would impound an 110-acre upper reservoir with a storage capacity of 11,000 acre-feet at a water surface elevation of 3,840 feet above mean sea level; (2) a 300-foot-wide, 5-foot-high, and 750-foot-long spillway on the upper dam; (3) ten 70-foot-high, 50-foot-wide, and 120-foot to 200-foot-long lower reservoirs that would be 5,000 feet underground with a total volume for each reservoir of 1,000 acre-feet; (4) fifty-six 18-foot-wide, 16-foot-high, and 10-foot-long concrete bulkheads within the lower reservoirs; (5) a 4,800-foot-long, 26-foot-diameter steel and concrete lined vertical headrace shaft connected to ten 10-foot-wide, 580 foot-long headrace penstock pipes; (6) ten 157-foot-long, 65-foot-wide, 92-foot-high underground turbine powerhouses with one Pelton turbine and generator each; (7) ten 157-foot-long, 65-foot-wide, 125-foot-high pump powerhouses with two radial storage pumps and motors; (8) ten 18-foot-wide, 16-foot-high, 170-foot-long tailraces; (9) fifteen 18-foot-wide, 16-foot-high access tunnels; (10) one 18-inch-diameter, 6-mile-long steel water supply pipeline; (11) 5 miles of access roads; (12) a rock stockpile site; (13) two 3-mile-long, 230-kilovolt transmission lines; (14) one 3-mile-long 500-kilovolt transmission line; and (15) appurtenant facilities. The proposed project would have an estimated annual generation of 14,600,000 megawatt hours.

Applicant Contact: Mr. Benjamin Wayne Mossman, Nightfall Renewables, President, 1420 Rocky Ridge Drive, Suite 260, Roseville, CA 95661; email: bmossman@nightfallrenewables.com; phone: (661) 310-2635.

FERC Contact: Jane Dalgliesh; email: jane.dalgliesh@ferc.gov; phone: (503) 552-2718.

Deadline for filing comments, motions to intervene, competing applications (without notices of intent), or notices of intent to file competing applications: on or before 5:00 p.m. Eastern Time on November 24, 2025. Competing applications and notices of intent must meet the requirements of 18 CFR 4.36.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15402-000.

More information about this project, including a copy of the application, can be viewed or printed on the “eLibrary” link of Commission's website at https://elibrary.ferc.gov/eLibrary/search. Enter the docket number (P-15407) in the docket number field to access the document. For assistance, contact FERC Online Support.

Dated: September 25, 2025.
Debbie-Anne A. Reese,
Secretary.

[FR Doc. 2025-18995 Filed 9-29-25; 8:45 am]

BILLING CODE 6717-01-P